Proclamation 10457 of September 30, 2022

National Arts and Humanities Month, 2022

By the President of the United States of America

A Proclamation

For centuries, American arts and humanities have been a beacon of light and understanding, recording our history and advancing new ways of thinking. This National Arts and Humanities month, we celebrate our Nation's visionary artists, scholars, and creators whose work touches and reveals the soul of America.

My Administration is committed to making the arts and humanities more accessible to people of every age and background, uplifting more voices, inspiring new generations, and showing the full power of our example as a great Nation. We have invested hundreds of millions of dollars in strengthening the National Endowment for the Arts (NEA) and the National Endowment for the Humanities (NEH), and our American Rescue Plan allocated over a billion more to help museums, libraries, theaters, concert halls, and other venues recover from the pandemic.

This critical support comes on top of a historic Executive Order I signed this week to promote the arts, humanities, and museum and library services. The order re-establishes the President's Committee on the Arts and Humanities, and directs cooperation among Federal agencies and offices to strengthen our Nation's health, economy, equity, and civic life through these disciplines. Additionally, I am proud to have appointed Dr. Maria Rosario Jackson to chair the NEA, the first African American and Mexican American to head the agency, and Shelly C. Lowe to chair the NEH, the first Native American in that role. Together, we will keep working to support artists, scholars, and leaders who look like America and will help tell our full story as a Nation.

The NEH charter says it best: Democracy demands wisdom. The steps we are taking this month will support American creators and communities, foster new understanding, and inspire us all to tackle our toughest challenges and keep pushing forward to form a more perfect Union.

NOW, THEREFORE, I, JOSEPH R. BIDEN JR., President of the United States of America, by virtue of the authority vested in me by the Constitution and the laws of the United States, do hereby proclaim October 2022 as National Arts and Humanities Month. I call on the people of the United States to observe this month with appropriate programs, ceremonies, and celebrations.

IN WITNESS WHEREOF, I have hereunto set my hand this thirtieth day of September, in the year of our Lord two thousand twenty-two, and of the Independence of the United States of America the two hundred and forty-seventh.

[FR Doc. 2022-21768

Filed 10-4-22; 8:45 am]

Billing code 3395-F3-P